DEPARTMENT OF THE INTERIOR

National Park Service

[NPS-WASO-NAGPRA-23205; PPWOCRADN0-PCU00RP14.R50000]

Notice of Intent To Repatriate Cultural Items: U.S. Department of the Interior, National Park Service, Ocmulgee National Monument, Macon, GA

AGENCY: National Park Service, Interior.

ACTION: Notice.

SUMMARY: The U.S. Department of the Interior, National Park Service, Ocmulgee National Monument, in consultation with the appropriate Indian tribes or Native Hawaiian organizations, has determined that the cultural items listed in this notice meet the definition of unassociated funerary objects. Lineal descendants or representatives of any Indian tribe or Native Hawaiian organization not identified in this notice that wish to claim these cultural items should submit a written request to Ocmulgee National Monument. If no additional claimants come forward, transfer of control of the cultural items to the lineal descendants, Indian tribes, or Native Hawaiian organizations stated in this notice may proceed.

DATES: Lineal descendants or representatives of any Indian tribe or Native Hawaiian organization not identified in this notice that wish to claim these cultural items should submit a written request with information in support of the claim to Ocmulgee National Monument at the address in this notice by July 3, 2017.

ADDRESSES: Jim David, Superintendent, Ocmulgee National Monument, 1207 Emery Highway, Macon, GA 31217, telephone (478) 752-8257, email jim_david@nps.gov.

SUPPLEMENTARY INFORMATION: Notice is here given in accordance with the Native American Graves Protection and Repatriation Act (NAGPRA), 25 U.S.C. 3005, of the intent to repatriate cultural items under the control of the U.S. Department of the Interior, National Park Service, Ocmulgee National Monument, Macon, GA, that meet the definition of unassociated funerary objects under 25 U.S.C. 3001.

This notice is published as part of the National Park Service's administrative responsibilities under NAGPRA, 25 U.S.C. 3003(d)(3). The determinations in this notice are the sole responsibility of the Superintendent, Ocmulgee National Monument.

History and Description of the Cultural Items

Between 1933 and 1958, 25,127 cultural items were removed from the Trading Post area of the Macon Plateau in Bibb County, GA, during multiple legally authorized excavations. The human remains were repatriated to culturally affiliated tribes in 2015 by the Smithsonian Institution, National Museum of Natural History. The 25,127 unassociated funerary objects are 2 abraders, 2 armbands, 41 balls, 22,045 beads, 16 bells, 10 bifaces, 499 animal remains, 3 bags of animal bone, 1 liquor bottle, 2 bowls, 1 bullet, 33 buttons, 5 charcoal fragments, 1 chopper, 29 pieces of fired clay, 2 pieces of unfired clay, 10 concretions, 3 cores, 2 cuff links, 11 pieces of daub, 101 pieces of debitage, 303 flakes, 28 flake tools, 2 flat rectangular copper fragments, 98 shells, 1 glass fragment, 1 gorget, 1 graver, 6 gun flints, 1 knife, 2 metal fragments, 1 metal pendant, 1 mug, 4 musket balls, 3 nails, 2 plant fragments, 1 nutting stone, 1 pipe, 15 projectile points, 7 preforms, 1 rivet, 5 scrapers, 1 seed, 33 pieces of shatter, 2 bags of shell, 2 worked shells, 4 pieces of slag, 1 spiral spring, 53 unmodified stones, 2 sword fragments, 3 tobacco pipes, 1 tack, 1 bag of unmodified stone, 1,705 vessel fragments, 5 windowpane fragments, 6 wires, 1 worked stone, and 4 flintlock muskets.

The trading post at Macon was operated by the British from 1685-1717. The historic Creek town associated with the trading post has long been thought to have been Ocmulgee. Burials excavated at this site were identified as historic Creek on the basis of European trade goods found in association with the remains. Residents of the Creek town of Ocmulgee moved to the Chattahoochee River after 1717. Historical documentation reflects a great deal of movement and reorganization among the Creeks and the Creek Confederacy during the 18th and 19th centuries. Ten present-day Indian tribes are thought to include Creek descendants including the Alabama-Coushatta Tribe of Texas, Alabama-Quassarte Tribal Town, Coushatta Tribe of Louisiana, Kialegee Tribal Town, Miccosukee Tribe of Indians, Poarch Band of Creeks, Seminole Tribe of Florida, The Muscogee (Creek) Nation, The Seminole Nation of Oklahoma, and Thlopthlocco Tribal Town.

Determinations Made by Ocmulgee National Monument

Officials of Ocmulgee National Monument have determined that:

• Pursuant to 25 U.S.C. 3001(3)(B), the 25,127 cultural items described above are reasonably believed to have been placed with or near individual human remains at the time of death or later as part of the death rite or ceremony and are believed, by a preponderance of the evidence, to have been removed from a specific burial site of a Native American individual.

• Pursuant to 25 U.S.C. 3001(2), there is a relationship of shared group identity that can be reasonably traced between the unassociated funerary objects and the Alabama-Coushatta Tribe of Texas (previously listed as the Alabama-Coushatta Tribes of Texas), Alabama-Quassarte Tribal Town, Coushatta Tribe of Louisiana, Kialegee Tribal Town, Miccosukee Tribe of Indians, Poarch Band of Creeks (previously listed as the Poarch Band of Creek Indians of Alabama), Seminole Tribe of Florida (previously listed as the Seminole Tribe of Florida (Dania, Big Cypress, Brighton, Hollywood & Tampa Reservations)), The Muscogee (Creek) Nation, The Seminole Nation of Oklahoma, and Thlopthlocco Tribal Town.

Additional Requestors and Disposition

Lineal descendants or representatives of any Indian tribe or Native Hawaiian organization not identified in this notice that wish to claim these cultural items should submit a written request with information in support of the claim to Jim David, Superintendent, Ocmulgee National Monument, 1207 Emery Highway, Macon, GA 31217, telephone (478) 752-8257, email jim_david@nps.gov, by July 3, 2017. After that date, if no additional claimants have come forward, transfer of control of the unassociated funerary objects to Alabama-Coushatta Tribe of Texas (previously listed as the Alabama-Coushatta Tribes of Texas), Alabama-Quassarte Tribal Town, Coushatta Tribe of Louisiana, Kialegee Tribal Town, Miccosukee Tribe of Indians, Poarch Band of Creeks (previously listed as the Poarch Band of Creek Indians of Alabama), Seminole Tribe of Florida (previously listed as the Seminole Tribe of Florida (Dania, Big Cypress, Brighton, Hollywood & Tampa Reservations)), The Muscogee (Creek) Nation, The Seminole Nation of Oklahoma, and Thlopthlocco Tribal Town may proceed.

Ocmulgee National Monument is responsible for notifying the Absentee-Shawnee Tribe of Indians of Oklahoma, Alabama-Coushatta Tribe of Texas (previously listed as the Alabama-Coushatta Tribes of Texas), Alabama-Quassarte Tribal Town, Catawba Indian Nation (aka Catawba Tribe of South Carolina), Cherokee Nation, Coushatta Tribe of Louisiana, Eastern Band of Cherokee Indians, Eastern Shawnee Tribe of Oklahoma, Jena Band of Choctaw Indians, Kialegee Tribal Town, Miccosukee Tribe of Indians, Mississippi Band of Choctaw Indians, Poarch Band of Creeks (previously listed as the Poarch Band of Creek Indians of Alabama), Seminole Tribe of Florida (previously listed as the Seminole Tribe of Florida (Dania, Big Cypress, Brighton, Hollywood & Tampa Reservations)), Shawnee Tribe, The Chickasaw Nation, The Choctaw Nation of Oklahoma, The Muscogee (Creek) Nation, The Seminole Nation of Oklahoma, Thlopthlocco Tribal Town, and United Keetowah Band of Cherokee Indians in Oklahoma that this notice has been published.

Dated: April 3, 2017.
Melanie O'Brien,
Manager, National NAGPRA Program.

[FR Doc. 2017-11451 Filed 6-1-17; 8:45 am]

BILLING CODE 4312-52-P